DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed revised information collection. In accordance with the Paperwork Reduction Act of 1995, this notice seeks comments concerning the long-term evaluation form used to evaluate all National Fire Academy (NFA) resident training.

SUPPLEMENTARY INFORMATION: The NFA is mandated under the Fire Prevention and Control Act of 1974 (Pub. L. 93-498) to provide training and education to the Nation's fire service and emergency service personnel. The state-of-the-art programs offered by the NFA serve as models of excellence and state and local fire service agencies rely heavily on the curriculum to train their personnel. To maintain the quality of these training programs, it is critical that courses be evaluated after students have had the opportunity to apply the knowledge and skills gained from their training.

Collection of Information

Title: National Fire Academy Long-term Evaluation Form for Supervisors and National Fire Academy Long-term Evaluation Form for Students.

Type of Information Collection: Revision of currently approved collection.

OMB Number: 1660-0039.

Form Numbers: FF-95-58 and FF 95-59.

Abstract: The National Fire Academy Long-term Evaluation Form will be used to evaluate all National Fire Academy (NFA) on-campus resident training courses. Course graduates and their supervisors will be asked to evaluate the impact of the training on both individual job performance and the fire and emergency response department/community where the student works. The data provided by students and supervisors is used to update existing NFA course materials and to develop new courses that reflect the emerging issues/needs of the Nation's fire service.

Affected Public: Individuals.

Estimated Total Annual Time Burden: 2,500 hours.

Annual Time Burden
Project/aActivity (Survey, form(s), focus group, worksheet, etc.) | No. of respondents: (A) | Frequency of responses: (B) | Time burden per respondent (hours): (C) | Annual responses: (D) = (A×B) | Total annual time burden (hours): (E) = (C×D)
FF 95-59 (Student/Trainee) | 5,000 | 1 | .33 | 5,000 | 1,650
FF 95-58 (Supervisors of Student/Trainee) | 5,000 | 1 | .17 | 5,000 | 850
Total | 10,000 | 1 | 10,000 | 2,500

Estimated Cost: There is no start-up, maintenance or operational cost to respondents. The annualized cost to respondents for the hour burden is $58,374.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 20, 2007.

ADDRESSES: Interested persons should submit written comments to Director, Office of Records Management, FEMA, 500 C Street, SW., Room 609, Washington, DC 20472, facsimile number (202) 646-3347, or e-mail address FEMA-Information-Collections@dhs.gov.

FOR FURTHER INFORMATION CONTACT: Contact Terry Gladhill, Program Analyst for additional information. You may contact the Records Management Branch for copies of the proposed collection of information at facsimile number (202) 646-3347 or e-mail address: FEMA-Information-Collections@dhs.gov.

Dated: September 14, 2007.
John A. Sharetts-Sullivan,
Director, Office of Records Management, Office of Management Directorate, Federal Emergency Management Agency, Department of Homeland Security.

[FR Doc. E7-18623 Filed 9-20-07; 8:45 am]

BILLING CODE 9110-17-P